COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes product(s) and service(s) previously furnished by such agencies.

DATES: Comments must be received on or before: November 22, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

5340-00-NIB-0378—Doorstop, No-Slip, Wedge Style, Rubber, Large, Brown

5340-00-NIB-0379—Doorstop, No-Slip, Wedge Style, Rubber, Large, Brown, 2 PK

5340-00-NIB-0380—Doorstop, No-Slip, Wedge Style, Rubber, Extra Large, Brown

5340-00-NIB-0381—Doorstop, No-Slip, Wedge Style, Rubber, Extra Large, Brown, 2 PK

5340-00-NIB-0382—Doorstop, Heavy Duty, Wedge Style, Magnetic, Rubber, Extra Large, Yellow

Mandatory Source of Supply: North Central Sight Services, Inc., Williamsport, PA

Mandatory For: Total Government Requirement

Contracting Activity: FEDERAL ACQUISITION SERVICE, GSA/FSS GREATER SOUTHWEST ACQUISITI

Service(s)

Service Type: Custodial Service

Mandatory for: US Air Force, Cannon Air Force Base, NM

Mandatory Source of Supply: ENMRSH, Inc., Clovis, NM

Contracting Activity: DEPT OF THE AIR FORCE, FA4855 27 SOCONS LGC

Service Type: Custodial Service

Mandatory for: US Air Force, Robins North Complex, Macon, GA

Mandatory Source of Supply: Good Vocations, Inc., Macon, GA

Contracting Activity: DEPT OF THE AIR FORCE, FA8571 AFSC PZIO MXW

Deletions

The following product(s) and service(s) are proposed for deletion from the Procurement List:

Product(s)

NSN(s)—Product Name(s):

6505-01-121-2336—Sunscreen, Lotion, SPF-15

Mandatory Source of Supply: SMA Healthcare, Inc., Daytona Beach, FL

Contracting Activity: DLA TROOP SUPPORT, PHILADELPHIA, PA

Service(s)

Service Type: Janitorial/Custodial

Mandatory for: U.S. Federal Building: 88 West 100 North, Provo, UT

Contracting Activity: GENERAL SERVICES ADMINISTRATION, FPDS AGENCY COORDINATOR

Service Type: Food Service Attendant

Mandatory for: Air National Guard, 179AW, Ohio Air National Guard Base, Mansfield, OH

Mandatory Source of Supply: The Center for Individual and Family Services, Mansfield, OH

Contracting Activity: DEPT OF THE ARMY, W7NU USPFO ACTIVITY OH ARNG

Service Type: Custodial Services

Mandatory for: USDA, #257 Aduana Street, Mayaguez, PR

Mandatory Source of Supply: The Corporate Source, Inc., Garden City, NY

Contracting Activity: ANIMAL AND PLANT HEALTH INSPECTION SERVICE, USDA APHIS MRPBS

Service Type: Custodial Services

Mandatory for: USDA, Eugenio Maria de Hostos International Airport: Main Terminal Building Mayaguez Airport, Mayaguez, PR

Mandatory Source of Supply: The Corporate Source, Inc., Garden City, NY

Contracting Activity: ANIMAL AND PLANT HEALTH INSPECTION SERVICE, USDA APHIS MRPBS

Service Type: Janitorial/Custodial

Mandatory for: DOT Murphy Building: Bradley International Airport, Floors 2, 3 & 4, Windsor Locks, CT

Contracting Activity: TRANSPORTATION, DEPARTMENT OF, DEPT OF TRANS

Service Type: Janitorial/Custodial

Mandatory for: U.S. Army Reserve Center: Fort Dix

Mandatory Source of Supply: Occupational Training Center of Burlington County, Burlington, NJ

Contracting Activity: DEPT OF THE ARMY, W6QM MICC CTR-FT DIX (RC)

Service Type: Janitorial & Grounds Service

Mandatory for: GSA PBS Region 9, Alan Bible Federal Building, Las Vegas, NV

Mandatory Source of Supply: Opportunity Village Association for Retarded Citizens, Las Vegas, NV

Contracting Activity: PUBLIC BUILDINGS SERVICE, PBS R9

Service Type: Food Service Attendant

Mandatory for: Base Miami Beach, Miami Beach, FL

Mandatory Source of Supply: Goodwill Industries of South Florida, Inc., Miami, FL

Contracting Activity: U.S. COAST GUARD, DOL-9

Service Type: Data Entry/Data Base Management

Mandatory for: GSA, Paints and Chemicals Commodity Center: 400 15th Street, SW, Auburn, WA

Mandatory Source of Supply: JobOne, Independence, MO

Contracting Activity: PUBLIC BUILDINGS SERVICE, PBS R6

Michael R. Jurkowski,
Deputy Director, Business Operations.

[FR Doc. 2020-23522 Filed 10-22-20; 8:45 am]

BILLING CODE 6353-01-P